DEPARTMENT OF DEFENSE

Department of the Navy

Meeting of the Naval War College Subcommittee of the E4SAB; Cancellation

AGENCY: Department of the Navy, DoD.

ACTION: Notice of open meeting; cancellation.

SUMMARY: On Friday, March 13, 2020, the Department of the Navy published a notice announcing a meeting of the U.S. Naval War College Subcommittee of the E4SAB that was to take place on Thursday, April 2, 2020, and Friday, April 3, 2020. Due to ongoing COVID-19 concerns, the Department of the Navy is cancelling this meeting.

DATES: The meeting that was open to the public, Thursday, April 2, 2020, from 9:00 a.m. to 4:30 p.m., and Friday, April 3, 2020, from 8:30 a.m. to 11:00 a.m. has been cancelled.

FOR FURTHER INFORMATION CONTACT: Dr. Thomas J. Gibbons, Alternate Designated Federal Official (ADFO), 686 Cushing Road, Newport, RI 02841-1207, telephone number (401) 841-4008, gibbonst@usnwc.edu.

SUPPLEMENTARY INFORMATION: The meeting notice published in the Federal Register on Friday March 13, 2020 (85 FR 14657).

Due to circumstances beyond the control of the Department of Defense, the Designated Federal Officer for U.S. Naval War College was unable to provide public notification required by 41 CFR 102-3.150(a) concerning the cancellation of the previously noticed meeting for April 2 through 3, 2020. Accordingly, the Advisory Committee Management Officer for the Department of Defense, pursuant to 41 CFR 102-3.150(b), waives the 15-calendar day notification requirement.

Dated: March 18, 2020.
K.K. Ramsey,
Office of the Judge Advocate General, Administrative Law U.S. Navy, Federal Register Liaison Officer.

[FR Doc. 2020-06128 Filed 3-23-20; 8:45 am]

BILLING CODE 3810-FF-P